DEPARTMENT OF ENERGY

Hydrogen Technical Advisory Panel; Open Meeting

AGENCY: Department of Energy.

ACTION: Notice of open meeting.

SUMMARY: This notice announces a meeting of the Hydrogen Technical Advisory Panel. Federal Advisory Committee Act (Pub. L. 92-463, 86 Stat. 770, as amended), requires that public notice of these meetings be announced in the Federal Register.

DATES: Tuesday, November 14, 2000, 8:30 a.m.-5:45 p.m.

Wednesday, November 15, 2000, 8:30 a.m.-12:30 p.m.

ADDRESSES: Sunline Transit Authority, 32-505 Harry Oliver Trail, Thousand Palms, California 92296. Telephone: 760-343-3456.

FOR FURTHER INFORMATION CONTACT: Neil Rossmeissl, Designated Federal Officer, Hydrogen Program Manager, EE-15, Office of Power Technologies, Department of Energy, Washington, DC 20585; Telephone: 202-586-8668.

SUPPLEMENTARY INFORMATION:

Purpose of the Meeting

The major purpose of this meeting will be to hold a discussion on Local, State, and Federal Governments role in supporting and encouraging the transition to hydrogen energy systems.

Other topics included are: (1) Reauthorization of the Hydrogen Future Act, (2) California Air Resources Board (CARB) regulating situation, (3) report on the Las Vegas Blueprint Workshop, (4) report on the BP Amoco Workshop on Fuel Cell Vehicle Infrastructure, (5) report on Vision 21.

Tuesday, November 14, 2000

8:30 a.m.: Introduction and Opening Comments—D. Nahmias

8:40: HTAP Committee Reports:

—Coordination—H. Chum

—Scenario Planning— H. Wedda

—Fuel Choice—R. Nichols

9:10: State of California—Hydrogen Activities—Today and Tomorrow

—Reauthorization of the Hydrogen Future Act—H. Chum

—Keynote Address—K. Calvert (invited)

—California Air Resources Board—A. Lloyd

—California Energy Commission—D. Rohy

10:10: Break

10:20: Programs and Coordination Activities—Transportation:

—California Fuel Cell Partnership—J. Wallace (invited)

—Las Vegas Blueprint Meeting Report—C. Hammil

—Sunline Update—R. Cromwell

—BP Amoco Workshop Report—J. Rinker

12:00 p.m.: Lunch

1:00: DOE Program Report—S. Gronich

2:00: Systems Analysis Report—M. Mann

2:45: Vision 21: Perspectives and Prospects—H. Chambers

3:45: Break

4:00: Public Comments (5 minutes maximum per speaker) Audience

4:45: HTAP Deliberations

5:45: Adjourn

Wednesday, November 15, 2000

8:30 a.m.: HYFORUM Report:

—Conference Overview—D. Nahmias

—Hydrogen Across the Federal Government—H. Chum

9:30: Hydrogen Safety Documentary—W. Hoagland, S. Leach

10:00: Break

10:15: Aspen Clean Energy Roundtable—C. Gregorie Padro

11:00: Public Comments

11:30: HTAP Deliberations

12:30 p.m.: Adjourn

Public Participation: This meeting is open to the public. Written statements may be filed with the Committee either before or after the meeting. Individuals who wish to make oral statements pertaining to agenda items should contact Mr. Neil Rossmeissl's office at the address or telephone number listed above. Requests must be received 5 days prior to the meeting and reasonable provision will be made to include the presentations in the agenda. The Designated Federal Officer is empowered to conduct the meeting in a fashion that will facilitate the orderly conduct of business. Each individual wishing to make public comment will be provided a maximum of 5 minutes to present their comments. This notice is being published less than 15 days before the date of the meeting due to programmatic issues that needed to be resolved prior to publication.

Minutes: The minutes of this meeting will be available for public review and copying at the Freedom of Information Public Reading Room, 1E-190, Forrestal Building, 1000 Independence Avenue, S.W. Washington, DC 20585 between 9:00 A.M. and 4:00 P.M., Monday through Friday, except Federal Holidays. Minutes will also be available by writing to Neil Rossmeissl, Department of Energy, 1000 Independence Avenue, SW., Washington, DC 20585, or by calling (202) 586-8668.

Issued at Washington, DC on November 6, 2000.
Rachel Samuel,
Deputy Advisory Committee Management Officer.

[FR Doc. 00-28976 Filed 11-9-00; 8:45 am]

BILLING CODE 6450-01-P